DEPARTMENT OF JUSTICE

Notice of Lodging of a Consent Decree Under the Comprehensive Environmental Response, Compensation, and Liability Act

Notice is hereby given that on April 27, 2011, a proposed Consent Decree in United States v. Bunting Bearings, LLC, Civil Action No. 3:10-CV-01527, was lodged with the United States District Court for the Northern District of Ohio.

In this action the United States alleges that Bunting Bearings, LLC is liable under Section 107 of the Comprehensive Environmental Response, Compensation, and Liability Act of 1980, as amended (“CERCLA”), 42 U.S.C. 9607, for the recovery of response costs incurred by the United States at the Eagle-Picher Superfund Site in Delta, Ohio. Under the proposed Consent Decree, Bunting Bearings, LLC will reimburse the United States $450,000 in past response costs.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, D.C. 20044-7611, and should refer to United States v. Bunting Bearings, LLC, D.J. Ref. 90-11-3-09684.

The proposed Consent Decree may be examined at the U.S. Environmental Protection Agency, Region 5, 77 West Jackson Boulevard, Chicago, IL 60604-3590 (contact Associate Regional Counsel Craig Melodia (312/886-2870)). During the public comment period, the proposed Consent Decree may also be examined on the following Department of Justice website: http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.75 (25 cents per page reproduction cost) payable to the U.S. Treasury or, if by email or fax, forward a check in that amount to the Consent Decree Library at the stated address.

Maureen Katz,
Assistant Chief, Environmental Enforcement Section, Environment and Natural Resources Division.

[FR Doc. 2011-10900 Filed 5-4-11; 8:45 am]

BILLING CODE 4410-15-P